FEDERAL COMMUNICATIONS COMMISSION

[Report No. 2675]

Petitions for Reconsideration and Clarification of Action in Rulemaking Proceeding

October 5, 2004.

Petitions for Reconsideration and Clarification have been filed in the Commission's Rulemaking proceedings listed in this public notice and published pursuant to 47 CFR 1.429(e). The full text of this document is available for viewing and copying in Room CY-B402, 445 12th Street, SW., Washington, DC or may be purchased from the Commission's copy contractor, Best Copy and Printing, Inc. (BCPI) (1-800-378-3160). Oppositions to these petitions must be filed by October 27, 2004. See § 1.4(b)(1) of the Commission's rules (47 CFR 1.4(b)(1)). Replies to an opposition must be filed within 10 days after the time for filing oppositions have expired.

Subject: In the Matter of Telecommunications Relay Services and Speech-to-Speech Services for Individuals with Hearing and Speech Disabilities (CC Docket No. 98-67, CC Docket No. 90-571, and CG Docket No. 03-123).

Number of Petitions Filed: 2.

Subject: In the Matter of the Amendment of the commission's Rules Regarding Dedicated Short-Range Communication Services in the 5.850-5.925 GHZ Band) (WT Docket No. 01-90).

Amendment of Parts 2 and 90 of the Commission's Rules to Allocate the 5.850-5.925 GHz Band to the Mobile Service for Dedicated Short Range Communications of Intelligent Transportation Services (ET Docket No. 98-95, RM-9096).

Number of Petitions Filed: 4.

Subject: In the Matter of the review of the Section 251 Unbundling Obligations of Incumbent Local Exchange Carriers (CC Docket No. 01-338)

Number of Petitions Field: 1.

Subject: In the Matter of the Review of the Spectrum Sharing Plan Among Non-Geostationary satellite Orbit Mobile Satellite Service Systems in the 1.6/2.4 GHz Bands (IB Docket No. 02-364).

Amendment of Part 2 of the commission's Rules to Allocate Spectrum Below 3 GHz for Mobile and Fixed Services to Support the Introduction of New Advanced Wireless Services, including Third Generation Wireless Systems (ET Docket No. 00-258).

Number of Petitions Filed: 5.

Subject: In the Matter of the Request to Update Default Compensation Rate for Dial-Around Calls from Payphones (WC Docket No. 03-225, RM-10568).

Number of petitions filed: 1.

Marlene H. Dortch,
Secretary.

[FR Doc. 04-22842 Filed 10-8-04; 8:45 am]

BILLING CODE 6712-01-M